DEPARTMENT OF COMMERCE

National Oceanic and Atmospheric Administration

RIN 0648-XE913

Marine Mammals; File No. 20452

AGENCY: National Marine Fisheries Service (NMFS), National Oceanic and Atmospheric Administration (NOAA), Commerce.

ACTION: Notice; receipt of application.

SUMMARY: Notice is hereby given that SMRU Consulting North America, LLC, P.O. Box 764, Friday Harbor, WA 98250, has applied in due form for a permit to conduct research on harbor porpoises and harbor seals in Admiralty Inlet and the San Juan Islands, Washington.

DATES: Written, telefaxed, or email comments must be received on or before November 3, 2016.

ADDRESSES: The application and related documents are available for review by selecting “Records Open for Public Comment” from the “Features” box on the Applications and Permits for Protected Species (APPS) home page, https://apps.nmfs.noaa.gov, and then selecting File No. 20452 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to characterize the behavioral responses of harbor porpoise (Phocoena phocoena) and harbor seal (Phoca vitulina) to marine renewable energy devices, and to characterize the fine scale habitat use of marine mammals in tidal inlets to inform collision risk with tidal turbines. Behavioral responses to tidal turbine noise will be addressed with an experimental playback approach. The playback studies will be undertaken in the inland waters of Washington State using a combination of land-based surveys and passive acoustic monitoring methods. Studies to characterize the fine scale habitat use of harbor porpoise and pinnipeds in tidal inlets will use a combination of land-based and unmanned aerial system surveys, and will also be carried out in the inland waters of Washington State during 2016-2021. The applicant requests 244 Level B takes of harbor porpoise between two study areas, 416 takes of harbor seals, 154 Steller sea lions (Eumetopias jubatus), and 7 California sea lions (Zalophus californianus) by means of acoustic playbacks and UAS.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 28, 2016.
Julia Harrison,
Chief, Permits and Conservation Division, Office of Protected Resources, National Marine Fisheries Service.

[FR Doc. 2016-23933 Filed 10-3-16; 8:45 am]

BILLING CODE 3510-22-P